SMALL BUSINESS ADMINISTRATION

Surrender of License of Small Business Investment Company

Pursuant to the authority granted to the United States Small Business Administration by the Final Order of the United States District Court for the Eastern District of Tennessee (Chattanooga), entered September 19, 2011, the United States Small Business Administration hereby revokes the license of Valley Capital Corporation, a Tennessee Corporation, to function as a small business investment company under the Small Business Investment Company License No. 04/04-5216 issued to Valley Capital Corporation, on October 8, 1982, and said license is hereby declared null and void as of September 28, 2011.

United States Small Business Administration.
Dated: September 8, 2015.
Javier E. Saade,
Associate Administrator for Investment.

[FR Doc. 2015-22978 Filed 9-14-15; 8:45 am]

BILLING CODE 8025-01-P